DEPARTMENT OF LABOR

Employment and Training Administration

[TA-W-41,467]

I.C. Isaacs & Co., Inc., New York, NY; Notice of Revised Determination on Reconsideration

By application of August 1, 2002, the company requested administrative reconsideration regarding the Department's Negative Determination Regarding Eligibility to Apply for Worker Adjustment Assistance, applicable to the workers of the subject firm.

The initial investigation resulted in a negative determination, based on the finding that the workers of I.C. Isaacs & Co., Incorporated did not produce jeans, t-shirts and men's polo shirts during the relevant period. The denial notice was signed on June 25, 2002 and published in the Federal Register on July 9, 2002 (67 FR 455501).

The company on reconsideration provided additional information concerning the functions performed by the subject firm and further indicated that various firm functions were transferred to a third party independent contractor located in Asia during the relevant period.

This data, in conjunction with data provided in the initial investigation, shows that the firm was an apparel manufacturer during the relevant period.

On further review it has been determined that the firm's sales and employment declined during the relevant period.

The investigation also revealed that a meaningful portion of the functions performed by the subject firm workers were shifted to a foreign third party independent contractor and the company subsequently increased their imports of jeans, t-shirts and men's polo shirts from that foreign source during the relevant period.

Conclusion

After careful consideration of the new facts obtained on reconsideration, it is concluded that increased imports of jeans, t-shirts and men's polo shirts contributed importantly to the decline in production and to the total or partial separation of workers at I.C. Isaacs & Co., Inc., New York, New York. In accordance with the provisions of the Act, I make the following revised determination:

Workers of I.C. Isaacs & Co., Inc., New York, New York, who became totally or partially separated from employment on or after April 10, 2001 through two years from the date of this certification, are eligible to apply for adjustment assistance under Section 223 of the Trade Act of 1974.

Signed in Washington, DC, this 16th day of October, 2002.
Edward A. Tomchick,
Director, Division of Trade Adjustment Assistance.

[FR Doc. 02-29702 Filed 11-21-02; 8:45 am]

BILLING CODE 4510-30-P